DELAWARE RIVER BASIN COMMISSION

Notice of Commission Meeting and Public Hearing

Notice is hereby given that the Delaware River Basin Commission will hold an informal conference followed by a public hearing on Wednesday, February 28, 2007. The hearing will be part of the Commission's regular business meeting. Both the conference session and business meeting are open to the public and will be held at the Commission's office building, located at 25 State Police Drive in West Trenton, New Jersey.

The conference among the commissioners and staff will begin at 10:15 a.m. Topics include a presentation by the Delaware Riverkeeper Network on islands of the Delaware River; a presentation on the Flood Mitigation Task Force report and recommendations; a presentation on the proposed Flexible Flow Management Plan (FFMP) for the New York City Delaware Basin Reservoirs; and remarks by Natural Resources Conservation Service (NRCS) representatives regarding NRCS activities and proposed activities within the Basin.

The subjects of the public hearing to be held during the 1:30 p.m. business meeting include the dockets listed below:

1. Mount Airy #1, LLC D-89-37-3. An application for the renewal of a ground and surface water withdrawal project to continue withdrawal of 9.5 mg/30 days from Wells Nos. 1 and 2 and up to 14 mg/30 days from a surface water intake on Forest Hills Run to supply the applicant's public water supply distribution and golf course irrigation systems, respectively, in the Long Run Member of the Catskill Formation. The project is located in the Forest Hills Run Watershed in Paradise Township, Monroe County, Pennsylvania. This withdrawal project is located within the drainage area to the section of the non-tidal Delaware River known as the Middle Delaware, which is classified as Special Protection Waters.

2. BP Oil Products North America D-91-32-4. An application for the renewal of a ground water decontamination project at the former Paulsboro Refinery to continue withdrawal of 30 mg/30 days for on-site treatment and discharge to the Delaware River through the existing outfall in DRBC Water Quality Zone 4. Up to 1 mgd of ground water is withdrawn from existing Wells Nos. R-4A, R-5A, R-6A, R-8, R-9, R-10, R-11, and R-12; all located just outside of New Jersey Critical Area 2 of the Potomac-Raritan-Magothy Formation. The project is located off Mantua Avenue in Paulsboro Borough, Gloucester County, New Jersey.

3. Paunnacussing Founders, Inc. D-96-42-2. An application for renewal of a ground water withdrawal project to continue withdrawal of up to 6 mg/30 days to supply the applicant's Lookaway Golf Course from existing Wells PW-2 and PW-3. The project is located in the Brunswick Formation in the Mill Creek Watershed in Buckingham Township, Bucks County, Pennsylvania and is located in the Southeastern Pennsylvania Ground Water Protected Area.

4. Freeland Borough Municipal Authority D-65-52 CP-2. An application for the approval of an extension of service area for the Freeland Borough Municipal Authority's Wastewater Treatment Plant (WWTP). The current WWTP serves Freeland Borough, with the new service area consisting of a portion of Foster Township. The existing WWTP's permitted discharge of 0.75 million gallons per day (mgd) will not be increased as a result of the new service area addition. The WWTP will continue to discharge to Pond Creek, a tributary to the Lehigh River, which is a tributary to the Lower Delaware River Special Protection Waters. The facility is located in Freeland Borough, Luzerne County, Pennsylvania.

5. General Chemical Corporation D-69-38-2. An application to update the original docket approving the discharge from the onsite industrial waste treatment plant (IWTP). General Chemical Corporation has ceased chemical manufacturing at the site. The original docket approved a 28.9 mgd discharge from the IWTP, whereas the current application is for approval of a 0.1 mgd IWTP discharge. The current discharge consists primarily of treated groundwater infiltration and stormwater runoff. In addition to the change in discharge conditions, the Commission has terminated Surface Water Entitlement No. 146, which approved a 33 mgd non-contact cooling water withdrawal. The IWTP, which is located in Claymont, Delaware, will continue to discharge to the Delaware River.

6. Spring City Borough D-74-61 CP-2. An application for the approval of an expansion of the Spring City Borough WWTP from 0.345 mgd to 0.600 mgd. The expansion will include the addition of a 600,000 gallon equalization tank, pumps and associated appurtenances. The expansion is being conducted to comply with a Consent Order and Agreement between the Borough and PADEP to eliminate wet weather related sewage bypasses at the WWTP and at the Main Street Pump Station. The WWTP will continue to discharge to the Schuylkill River. The facility is located in Spring City Borough, Chester County, Pennsylvania.

7. Birdsboro Municipal Authority D-74-126 CP-2. An application for approval of the upgrade and expansion of the Birdsboro Municipal Authority's WWTP. The WWTP's permitted average daily discharge will be increased from 1.0 mgd to 1.35 mgd. The WWTP will continue to discharge to Hay Creek, which is a tributary to the Schuylkill River. The facility is located in the Borough of Birdsboro, Berks County, Pennsylvania.

8. Myerstown Borough Sewer Authority D-74-176 CP-2. An application for approval of an upgrade and expansion of the Myerstown Borough Sewer Authority's Wastewater Treatment Plant (WWTP). The WWTP is proposed to be expanded from 1.6 mgd to 2.0 mgd and will continue to discharge to the Tulpehocken Creek, which is a tributary of the Schuylkill River. The facility is located in Jackson Township, Lebanon County, Pennsylvania.

9. Matamoras Municipal Authority D-81-78 CP-7. An application for the renewal of a ground water withdrawal project to increase withdrawal from 11.7 mg/30 days to 19.5 mg/30 days to supply the applicant's public water supply distribution system from existing Wells Nos. 3, 5, 7, 8 and 8A in the Pleistocene Outwash and Mahantango Formations. The increased allocation is requested in order to meet projected increases in service area demand. The project is located in the Delaware River Watershed in Matamoras Borough, Pike County, Pennsylvania. This withdrawal project is located within the drainage area to the section of the non-tidal Delaware River known as the Middle Delaware, which is classified as Special Protection Waters.

10. Pennsylvania Utility Company D-89-33 CP-3. An application for the renewal of a ground water withdrawal project to increase withdrawal from 6.4 mg/30 days to 21.01 mg/30 days to supply the applicant's 2,500 acre Highland Village (former Tamiment Resort) development from existing Wells Nos. 1, 2 and 3 in the Towamensing Member of the Catskill Formation. The increased allocation is requested in order to meet projected increases in service area demand. The project is located in the Little Bushkill Creek Watershed in Lehman Township, Pike County, Pennsylvania. This withdrawal project is located within the drainage area to the section of the non-tidal Delaware River known as the Middle Delaware, which is classified as Special Protection Waters.

11. Joint Municipal Authority of Wyomissing Valley D-91-9 CP-2. An application for approval to modify the solids handling facilities at the Joint Municipal Authority of Wyomissing Valley WWTP. No change in the WWTP design capacity of 4 mgd is proposed. Existing solids handling facilities at the WWTP will be upgraded to improve WWTP sludge for liquid land application and/or dewatering prior to landfill disposal. WWTP effluent will continue to discharge to Wyomissing Creek in the Schuylkill River Watershed through the existing outfall. The WWTP is located in the City of Reading, Berks County, Pennsylvania. The WWTP will continue to serve the following municipalities: the Boroughs of West Reading, Wyomissing, Shillington and Mohnton; and portions of the Borough of Wyomissing Hills, Spring and Cumru Townships, and the City of Reading, all within Berks County.

12. Pennsylvania American Water Company D-92-64 CP-2. An application for the modification, reconstruction and expansion of an existing wastewater treatment plant to meet regional growth needs and more stringent water quality requirements. The WWTP discharge, located in the West Branch Brandywine Creek in Interstate Water Quality Zone C7, will increase from 3.85 mgd to 7.0 mgd. The facility is located in South Coatesville Borough, Chester County, Pennsylvania.

13. Pennsgrove Water Supply Company D-93-77 CP-2. An application for the renewal of a ground water withdrawal project to increase withdrawal from 58.9 mg/30 days to 70.4 mg/30 days and up to 753 mg/year to supply the applicant's public water supply distribution system from existing Wells RF1A, RF2B, RF3A, 2, 4, 7 and 11 in the Potomac-Raritan-Magothy Formation. The project is located in the Delaware River Watershed in Carneys Point Township, Salem County, New Jersey and is located just outside of the influence of New Jersey Critical Water Supply Area No. 2.

14. Borough of Fleetwood D-95-58 CP-2. An application for approval of a ground and surface water withdrawal project to supply up to 25.92 mg/30 days of water to the applicant's public water supply distribution system from new Well No. 15 and to increase the total withdrawal from all wells and surface water intakes from 27.5 mg/30 days to 54.39 mg/30 days. The increased allocation is requested in order to meet projected increases in service area demand. The new well is located in the Allentown Formation in the Willow Creek Watershed in Richmond Township, Berks County, Pennsylvania.

15. Pennsylvania American Water Company D-99-30 CP-4. An application for approval of a ground water withdrawal project to supply up to 12.96 mg/30 days of water to the applicant's Glen Alsace public water supply distribution system from new Well G-9A in the Brunswick Formation, and to retain the existing maximum withdrawal from all wells of 50 mg/30 days. The Glen Alsace distribution system also receives water from two existing interconnections—one with the Reading Area Water Authority (45 mg/30 days) and the other with the Mount Penn Water Authority (6 mg/30 days)— and conveys water to the Pennsylvania American Water Company's Douglasville public water supply distribution system in Amity Township, Pennsylvania. The project is located in the Antietam Creek Watershed in Exeter Township, Berks County, Pennsylvania.

16. Burlington Township D-99-50 CP-2. An application for the renewal of a ground water withdrawal project to increase withdrawal from 113 mg/30 days to 129.8 mg/30 days of water to the applicant's public water supply system from new Well No. 8 and existing Wells Nos. 1A, 2, 3, 4, 5, 6 and 7. The project is located in the Potomac-Raritan-Magothy Formation in Burlington Township, Burlington County, New Jersey.

17. City of Easton D-99-62 CP. An application to expand the applicant's water filtration plant to 16 mgd and increase its surface water withdrawal allocation from 10 mgd to 13 mgd (390 mg/month) via its intake on the Delaware River at the northeast edge of the City of Easton, Northampton County, Pennsylvania. The proposed expansion is needed to serve increased population in the service areas of both the applicant and its main subsidiary customer, Easton Suburban Water Authority. The combined service area of both the City of Easton and the Easton Suburban Water Authority includes the City of Easton; Wilson, Glendon and West Easton Boroughs; Palmer and Forks Townships; and portions of Williams, Bethlehem, Plainfield, Lower Mount Bethel and Lower Nazareth Townships; all in Northampton County, Pennsylvania.

18. Buckingham Township D-2003-13 CP-3. An application for approval of a ground water withdrawal project to supply up to 1.0 mg/30 days of water to the applicant's Smith-Pfeiffer tract (also known as Forest Grove) distribution system from new Wells Nos. FG-1 and FG-2 and to increase the existing withdrawal from all wells from 41 mg/30 days to 42 mg/30 days in order to meet increased service area demand. The project is located in the Brunswick Formation in the Robin Run Watershed in Buckingham Township, Bucks County, Pennsylvania and is located in the Southeastern Pennsylvania Ground Water Protected Area.

19. Three Lane Utilities, Inc. D-2006-25 CP-1. An application for the approval of a ground water withdrawal project to supply up to 7.68 mg/30 days of water to the applicant's public water supply distribution system from new Well No. 5 and up to 2.25 mg/30 days from existing Well No. 3 and to limit the existing withdrawal from all wells to 9.93 mg/30 days. The project is located in the Mahantango Formation in the Delaware River Watershed in Westfall Township, Pike County, Pennsylvania.

20. Downingtown Municipal Water Authority D-2006-31 CP-1. An application for the approval of an existing backwash discharge from the Authority's water treatment plant. The facility discharges up to 0.1 mgd of filter and clarifier backwash and sludge bed filtrate to an unnamed tributary of Beaver Creek, which is a tributary of the East Branch Brandywine Creek. The facility is located in Downingtown Borough, Chester County, Pennsylvania.

21. Little Washington Wastewater Company, Inc. D-2006-32-1. An application for the approval of a new WWTP facility to serve the proposed Honeycroft Village residential development. The proposed 86,000 gpd treated discharge will be land-applied to a dedicated 14.1 acre spray area. The development, treatment facilities and spray irrigation area are located in the Doe Run Watershed. Doe Run is a tributary of the West Branch Brandywine Creek. The facilities are located in Londonderry Township, Chester County, Pennsylvania.

22. Pennsylvania American Water Company D-2006-33-1. An application for approval of a ground water withdrawal project to supply up to 18.57 mg/30 days of water to the applicant's Blue Mountain Lake public water supply distribution system from new Wells Nos. PW1 and PW2. The project is located in the Mahantango Formation in the Brodhead Creek Watershed in Stroud Township, Monroe County, Pennsylvania. This withdrawal project is located within the drainage area to a section of the non-tidal Delaware River known as the Middle Delaware, which is classified as Special Protection Waters.

23. Concord Associates, LP D-2006-35-1. An application for approval of a ground water withdrawal project to supply up to 6.0 mg/30 days of water to the applicant's distribution system from new Wells Nos. 1, 2 and PW-4. The project is located in the Upper Walton Formation in the Kiamesha Creek Watershed in the Town of Thompson, Sullivan County, New York, within the drainage area to a section of the non-tidal Delaware River known as the Upper Delaware, which is classified as Special Protection Waters.

24. Pennsylvania American Water Company D-2006-36-1. An application for approval to discharge filter backwash from PAWC's Rock Run water treatment plant (WTP). A discharge of 0.14 mgd is permitted from the WTP and will continue to be discharged to the Rock Run Reservoir, which is a tributary to the Brandywine Creek. The facility is located in West Caln Township, Chester County, Pennsylvania.

25. United States Army Training Center and Fort Dix D-2006-40 CP-1. An application for approval of a ground and surface water withdrawal project to supply up to 155 mg/30 days of water to the applicant's military base from Wells Nos. 2, 4, 5, 6, 7, 8, 10, 11, 12, 13, 14, Range 14, ASP, and ARDEC and from an intake on the Greenwood Branch of the North Branch Rancocas Creek. The project is located in the Middle Potomac-Raritan-Magothy, Englishtown, Cohansey, and Wenonah-Mt. Laurel aquifers in the Crosswicks Creek and North Branch Rancocas Creek Watersheds in New Hanover and Pemberton Townships, Burlington County and Plumstead and Manchester Townships, Ocean County, New Jersey.

26. Lenape Regional High School District D-2006-42 CP-1. An application for approval of a ground water withdrawal project to supply less than 3.1 mg/30 days of water to the applicant's irrigation and domestic supply system from new Wells Nos. 1, 2 and 3. The project is located in the Mt. Laurel and Cohansey Aquifers in the South Branch Rancocas Creek Watershed in Tabernacle Township, Burlington County, New Jersey.

In addition to the public hearing on the dockets listed above, the Commission's 1:30 p.m. business meeting will include: A public hearing and consideration of a resolution approving amendments to Resolution 2006-18 concerning a Spill Mitigation Program for the New York City Delaware Basin Reservoirs; a resolution authorizing the Executive Director to enter into agreements for the implementation of Phase 2 of a study on Dwarf Wedgemussels, an endangered species found in sections of the main stem non-tidal Delaware River; a resolution authorizing the Executive Director to enter into an agreement for Periphyton analysis; a resolution authorizing the Executive Director to enter into an agreement with Hydrologics, Inc. for modeling services to link the OASIS flow model and estuary chloride model; a public hearing and consideration of a resolution authorizing the Executive Director to require point source dischargers within the Brodhead Creek Watershed to perform effluent sampling for nutrients for the purpose of implementing the Special Protection Waters program; a resolution approving minor amendments to the Administrative Manual—By-Laws, Management and Personnel; and a resolution approving the Commission's operating and capital budgets for Fiscal Year 2008.

The meeting will also include: adoption of the Minutes of the Commission's December 12, 2006 business meeting; announcements of upcoming advisory committee meetings and other events; a report by the Executive Director; a report by the Commission's General Counsel; and an opportunity for public dialogue.

Draft dockets scheduled for public hearing on February 28, 2007 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: February 9, 2007.
Pamela M. Bush, Esquire,
Commission Secretary.

[FR Doc. E7-2658 Filed 2-14-07; 8:45 am]

BILLING CODE 6360-01-P